DEPARTMENT OF TRANSPORTATION

Office of the Secretary

Aviation Proceedings, Agreements Filed the Week Ending May 13, 2005

The following Agreements were filed with the Department of Transportation under the provisions of 49 U.S.C. Sections 412 and 414. Answers may be filed within 21 days after the filing of the application.

Docket Number: OST-2005-21205.

Date Filed: May 9, 2005.

Parties: Members of the International Air Transport Association.

Subject: CTC COMP 0525 dated 31 March 2005; Mail Vote 445—Cargo Composite Resolutions r1-r10. CTC COMP 0529 dated 6 May 2005; Amendment to Filing Period. CTC COMP 0530 dated 9 May 2005; Description of Agreement. Minutes: CTC COMP 0528 dated 5 May 2005; Intended effective date: 1 June 2005.

Docket Number: OST-2005-21237.

Date Filed: May 10, 2005.

Parties: Members of the International Air Transport Association.

Subject: CAC/33/Meet/004/05 dated 29 April, 2005; Expedited Resolutions 809/809e/809zz/823. (Minutes relevant to the Resolutions are included in CAC/33/Meet/004/05) Intended effective date: expedited July 1, 2005.

Andrea M. Jenkins,
Program Manager, Docket Operations, Federal Register Liaison.

[FR Doc. 05-11000 Filed 6-1-05; 8:45 am]

BILLING CODE 4910-62-P